DEPARTMENT OF ENERGY

Nuclear Energy Advisory Committee

AGENCY: Office of Nuclear Energy, Department of Energy.

ACTION: Notice of open meeting.

SUMMARY: This notice announces an open virtual meeting of the Nuclear Energy Advisory Committee. The Federal Advisory Committee Act requires that public notice of this meeting be announced in the Federal Register.

DATES: Thursday, January 16, 2025; 11 a.m.-12:30 p.m. EST.

ADDRESSES: Virtual via Teams. Members of the public are encouraged to participate virtually. To participate virtually, please register by sending an email to robert.rova@nuclear.energy.gov. You must register to receive the Teams meeting invitation. Please use as the subject, “Nuclear Energy Advisory Committee January 2025 Meeting”.

FOR FURTHER INFORMATION CONTACT: Bob Rova, Alternate Designated Federal Officer, Office of Nuclear Energy, U.S. Department of Energy, 19901 Germantown Road, Germantown, MD 20874; phone: 301-903-9096 or email: robert.rova@nuclear.energy.gov.

SUPPLEMENTARY INFORMATION:

Purpose of the Committee: The Nuclear Energy Advisory Committee provides advice and recommendations to the Assistant Secretary for Nuclear Energy on national policy and scientific aspects of nuclear issues of concern to DOE; provides periodic reviews of the various program elements within DOE's nuclear programs and recommendations based thereon; ascertains the needs, views, and priorities of DOE's nuclear programs; advises on long-range plans, priorities, and strategies to address more effectively the technical, financial, and policy aspects of such programs; and advises on appropriate levels of resources to develop those plans, priorities, and strategies. The committee is composed of 10 individuals of diverse backgrounds selected for their technical expertise and experience, established records of distinguished professional service, and their knowledge of issues that pertain to nuclear energy.

Purpose of Meeting: The Nuclear Energy Advisory Committee will hold a meeting on Thursday, January 16, 2025, to provide recommendations to the Office of Nuclear Energy.

Tentative Agenda:

11-11:15 a.m. Welcome and Opening Remarks

11:15 a.m.-12 p.m. NEAC Recommendations Discussion

12-12:15 p.m. Public Comments

12:15-12:30 p.m. Wrap-up and adjourn the January 2025 Meeting of the NEAC

Public Participation: The NEAC welcomes the attendance of the public at its meetings. Individuals who wish to offer public comments at the NEAC meeting may do so on January 16, 2025, but must register in advance by 12 p.m. Eastern time on January 15, 2025, by sending a written request identified by “Nuclear Energy Advisory Committee January 2025 Meeting,” to Mr. Bob Rova at robert.rova@nuclear.energy.gov. Approximately 15 minutes will be reserved for public comments. Time allotted per speaker will depend on the number who wish to speak but is not expected to exceed three minutes. Anyone who is not able to attend the meeting, or for whom the allotted public comments time is insufficient to address pertinent issues with the NEAC, is invited to send a written statement identified by “Nuclear Energy Advisory Committee January 2025 Meeting,” to Mr. Bob Rova at robert.rova@nuclear.energy.gov.

Minutes: Minutes will be available by contacting Bob Rova at the address or phone number listed above. Minutes will also be available at the following website: https://www.energy.gov/ne/nuclear-energy-advisory-committee.

Signing Authority: This document of the Department of Energy was signed on December 17, 2024 by Alyssa Petit, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 17, 2024.
Jennifer Hartzell,
Alternate Federal Register Liaison Officer, U.S. Department of Energy.

[FR Doc. 2024-30428 Filed 12-19-24; 8:45 am]

BILLING CODE 6450-01-P